DEPARTMENT OF ENERGY

Federal Energy Regulatory Commission

Combined Notice of Filings #1

Take notice that the Commission received the following electric corporate filings:

Docket Numbers: EC13-46-000.

Applicants: Spearville 3, LLC, BlackRock NTR Renewable Power Fund (Master), L.P., Eurus Energy America Corporation.

Description: Application for Approval under Section 203 of the Federal Power Act and Requests for Expedited Consideration and Confidential Treatment of Spearville 3, LLC, et al.

Filed Date: 11/21/12.

Accession Number: 20121121-5225.

Comments Due: 5 p.m. ET 12/12/12.

Docket Numbers: EC13-47-000.

Applicants: Algonquin Power Fund (America) Inc., Goldwind International SO Limited, GSG 6, LLC, Shady Oaks Holdings, LLC, TianRun Shady Oaks, LLC.

Description: Joint Application for Authorization for Disposition of Jurisdictional Facilities and Request for Confidential Treatment of Algonquin Power Fund (America) Inc., et al.

Filed Date: 11/23/12.

Accession Number: 20121123-5030.

Comments Due: 5 p.m. ET 12/14/12.

Take notice that the Commission received the following electric rate filings:

Docket Numbers: ER12-2611-001.

Applicants: NorthWestern Corporation.

Description: SA 646-SGIA with NPS re Mammoth Project to be effective 9/12/2012.

Filed Date: 11/23/12.

Accession Number: 20121123-5000.

Comments Due: 5 p.m. ET 12/14/12.

Docket Numbers: ER13-445-000.

Applicants: Badger Creek Limited.

Description: MBR Tariff to be effective 11/22/2012.

Filed Date: 11/21/12.

Accession Number: 20121121-5152.

Comments Due: 5 p.m. ET 12/12/12.

Docket Numbers: ER13-446-000.

Applicants: Fitchburg Gas and Electric Light Company.

Description: Amended Interconnection Agreement to be effective 10/31/2012.

Filed Date: 11/21/12.

Accession Number: 20121121-5163.

Comments Due: 5 p.m. ET 12/12/12.

Docket Numbers: ER13-447-000.

Applicants: Arizona Public Service Company.

Description: Revisions to Open Access Transmission Tariff, FERC Electric Tariff, Volume No. 2 to be effective 1/22/2013.

Filed Date: 11/21/12.

Accession Number: 20121121-5186.

Comments Due: 5 p.m. ET 12/12/12.

Docket Numbers: ER13-448-000.

Applicants: Arizona Public Service Company.

Description: Modifications to Joint Agreements, Rate Schedule Nos. 242 and 244 to be effective 1/22/2013.

Filed Date: 11/21/12.

Accession Number: 20121121-5191.

Comments Due: 5 p.m. ET 12/12/12.

Docket Numbers: ER13-449-000.

Applicants: California Independent System Operator Corporation.

Description: 2012-11-21 CAISO Tariff Amendment Regarding Circular Scheduling to be effective 2/1/2013.

Filed Date: 11/21/12.

Accession Number: 20121121-5202.

Comments Due: 5 p.m. ET 12/12/12.

Take notice that the Commission received the following electric securities filings:

Docket Numbers: ES13-2-000.

Applicants: Maine Public Service Company.

Description: Maine Public Service Company submits Supplement to the Application filed on 10/19/12.

Filed Date: 11/21/12.

Accession Number: 20121121-5221.

Comments Due: 5 p.m. ET 12/3/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 23, 2012.
Nathaniel J. Davis, Sr.,
Deputy Secretary.

[FR Doc. 2012-28959 Filed 11-29-12; 8:45 am]

BILLING CODE 6717-01-P